DEPARTMENT OF AGRICULTURE

Submission for OMB Review; Comment Request

December 1, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: National Household Food Acquisition and Purchase Survey.

OMB Control Number: 0536-NEW.

Summary of Collection: The Economic Research Service (ERS) will be conducting the National Household Food Acquisition and Purchase Survey (aka National Food Study). The mission of ERS is to provide timely research and analysis to public and private decision makers on topics related to agriculture, food, the environment, and rural America. To achieve this mission, ERS requires a variety of data that describe agricultural production, food distribution channels, availability and price of food at the point of sale, and household demand for food products. There is a great need for the above information as it relates to low-income households. It is critical for USDA to better understand the food acquisition behaviors of low-income, program-eligible households in order to effectively serve this segment of the population with efficient and effective programs. Section 17 (U.S.C. 2026)(a)(1) of the Food and Nutrition Act of 2008 provides legislative authority for the planned data collection. This section authorizes the Secretary of Agriculture to enter into contracts with private institutions to undertake research that will help to improve the administration and effectiveness of the Supplemental Nutrition Assistance Program (SNAP) in delivering nutrition-related benefits.

Need and Use of the Information: The National Food Study will collect information about household food acquisitions, including foods purchased and foods obtained at no cost (e.g., home-grown vegetables). Information also will be collected about household characteristics, including demographics, income, major categories of nonfood expenditures, food security, health status (including heights and weights), and dietary knowledge. This survey will provide ERS with information to support the analysis of a wide variety of research questions.

Description of Respondents: Individuals or household.

Number of Respondents: 24,675.

Frequency of Responses: Reporting: On occasion.

Total Burden Hours: 44,695.

Ruth Brown,
Departmental Information Collection Clearance Officer.

[FR Doc. 2011-31303 Filed 12-5-11; 8:45 am]

BILLING CODE 3410-18-P